NATIONAL AERONAUTICS AND SPACE ADMINISTRATION

[Notice 00-098]

Government-Owned Inventions, Available for Licensing

AGENCY: National Aeronautics and Space Administration.

ACTION: Notice of availability of inventions for licensing.

SUMMARY: The inventions listed below are assigned to the National Aeronautics and Space Administration, have been filed in the United States Patent and Trademark Office, and are available for licensing:

NASA Case No. KSC 11886: Extreme Wind Velocity Measurement System;

NASA Case No. KSC 12052: Communications Interface for Wireless Communications Headset.

DATES: August 24, 2000.

FOR FURTHER INFORMATION CONTACT: Diana Cox, Patent Counsel, Kennedy Space Center, Mail Code: CC-A, Kennedy Space Center, FL, 32899; Tel. (321) 867-7214; Fax (321) 867-1817.

Dated: August 16, 2000.
Edward A. Frankle,
General Counsel.

[FR Doc. 00-21582 Filed 8-23-00; 8:45 am]

BILLING CODE 7510-01-P